DEPARTMENT OF COMMERCE

International Trade Administration

[A-427-801, A-428-801, A-475-801, A-588-804, A-485-801, A-559-801, A-401-801, A-412-801]

Antifriction Bearings (Other Than Tapered Roller Bearings) and Parts Thereof From France, Germany, Italy, Japan, Romania, Singapore, Sweden, and the United Kingdom; Preliminary Results of Antidumping Duty Administrative Reviews, Partial Rescission of Administrative Reviews, and Notice of Intent To Revoke Orders in Part

AGENCY: Import Administration, International Trade Administration, Department of Commerce.

ACTION: Notice of preliminary of antidumping duty administrative reviews, partial rescission of administrative reviews, and notice of intent to revoke orders in part.

SUMMARY: In response to requests from interested parties, the Department of Commerce is conducting administrative reviews of the antidumping duty orders on antifriction bearings (other than tapered roller bearings) and parts thereof from France, Germany, Italy, Japan, Romania, Singapore, Sweden, and the United Kingdom. The merchandise covered by these orders are ball bearings and parts thereof, cylindrical roller bearings and parts thereof, and spherical plain bearings and parts thereof. The reviews cover 56 manufacturers/exporters. The period of review is May 1, 1999, through December 31, 1999, for certain orders and May 1, 1999, through April 30, 2000, for other orders.

We have preliminarily determined that sales have been made below normal value by various companies subject to these reviews. If these preliminary results are adopted in our final results of administrative reviews, we will instruct U.S. Customs to assess antidumping duties on all appropriate entries.

We invite interested parties to comment on these preliminary results. Parties who submit comments in these proceedings are requested to submit with each argument (1) a statement of the issue and (2) a brief summary of the argument.

EFFECTIVE DATE: February 5, 2001.

FOR FURTHER INFORMATION CONTACT: Please contact the appropriate case analysts for the various respondent firms as listed below, at Import Administration, International Trade Administration, U.S. Department of Commerce, Washington, DC 20230; telephone: (202) 482-4733.

France

Edythe Artman (SNFA), George Callen (SNR), Lyn Johnson (Alfateam—Belgium, Alfa-Team—Germany, Bearing Discount Int.—Germany, Motion Bearings—Singapore, Yoo Shin Commercial Co—South Korea, Rodamientos Rovi—Venezuela, Rovi-Valencia—Venezuela, Rovi-Marcay—Venezuela, RIRSA—Mexico, DCD—Northern Ireland, EuroLatin Ex. Services—United Kingdom (collectively, Resellers)), Robin Gray, or Richard Rimlinger.

Germany

George Callen (Cerobear), Hermes Pinilla (INA), Thomas Schauer (Torrington Nadellager), Lyn Johnson (Resellers), Robin Gray, or Richard Rimlinger.

Italy

Lyn Johnson (Resellers) or Robin Gray.

Japan

David Dirstine (NSK), Thomas Schauer (NTN), Lyn Johnson (Koyo), Robin Gray, or Richard Rimlinger.

Sweden

Lyn Johnson (Resellers) or Robin Gray.

United Kingdom

Thomas Schauer (Timken, RHP/NSK), Edythe Artman (SNFA), Robin Gray, or Richard Rimlinger.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR Part 351 (2000).

Background

On May 15, 1989, the Department published in the Federal Register (54 FR 20909) the antidumping duty orders on ball bearings and parts thereof (BBs), cylindrical roller bearings and parts thereof (CRBs), and spherical plain bearings and parts thereof (SPBs) from France, Germany, Italy, Japan, Romania, Singapore, Sweden, and the United Kingdom. Specifically, these orders cover BBs, CRBs, and SPBs from France, Germany, and Japan, BBs and CRBs from Italy, Sweden, and the United Kingdom, and BBs from Romania and Singapore. On July 7, 2000, in accordance with 19 CFR 351.213(b), we published a notice of initiation of administrative reviews of these orders (65 FR 41942).

On June 28, 2000, the International Trade Commission, pursuant to section 751(c) of the Act, determined that revocation of the orders on BBs from Romania and Sweden, CRBs from France, Germany, Italy, Japan, Sweden and the United Kingdom, and SPBs from Germany and Japan would not be likely to lead to continuation or recurrence of material injury. As a result of these determinations, the Department revoked the antidumping duty orders in question. The Department published the revocation notice for these orders in the Federal Register on July 11, 2000, with an effective date of January 1, 2000 (65 FR 42667). Therefore, for the revoked orders, the period covered by these administrative reviews is May 1, 1999, through December 31, 1999. For the remaining orders subject to these administrative reviews the period covered is May 1, 1999, through April 30, 2000. The Department is conducting these administrative reviews in accordance with section 751 of the Act.

Subsequent to the initiation of these reviews, we received timely withdrawals of the requests we had received for review of SKF (France), SKF (Germany), FAG (Germany), SNR (Germany), FAG (Italy), SOMECAT (Italy), Inoue Jikuuke Kogyo (Japan), Izumoto Seiko Co. (Japan), Koyo Romania (Romania), NMB/Pelmec (Singapore), SKF (Sweden), Barden (U.K.), SNR (U.K.), RHP-NSK (U.K.) with respect to CRBs only, and SNR (France) with respect to BBs only. We also received a timely withdrawal of the request that we had received for review of Muro Corporation (Japan) with respect to BBs only. Because there were no other requests for review of the above-named firms, we are rescinding the reviews with respect to these companies in accordance with 19 CFR 351.213(d).

Scope of Reviews

The products covered by these reviews are antifriction bearings (other than tapered roller bearings) and parts thereof (AFBs) and constitute the following merchandise:

1. Ball Bearings and Parts Thereof: These products include all AFBs that employ balls as the rolling element. Imports of these products are classified under the following categories: antifriction balls, ball bearings with integral shafts, ball bearings (including radial ball bearings) and parts thereof, and housed or mounted ball bearing units and parts thereof.

Imports of these products are classified under the following Harmonized Tariff Schedules (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

2. Cylindrical Roller Bearings, Mounted or Unmounted, and Parts Thereof: These products include all AFBs that employ cylindrical rollers as the rolling element. Imports of these products are classified under the following categories: antifriction rollers, all CRBs (including split CRBs) and parts thereof, and housed or mounted cylindrical roller bearing units and parts thereof.

Imports of these products are classified under the following HTSUS subheadings: 3926.90.45, 4016.93.00, 4016.93.10, 4016.93.50, 6909.19.5010, 8431.20.00, 8431.39.0010, 8482.40.00, 8482.50.00, 8482.80.00, 8482.91.00, 8482.99.25, 8482.99.35, 8482.99.6530, 8482.99.6560, 8482.99.70, 8483.20.40, 8483.20.80, 8483.50.8040, 8483.90.20, 8483.90.30, 8483.90.70, 8708.50.50, 8708.60.50, 8708.93.5000, 8708.99.4000, 8708.99.4960, 8708.99.50, 8708.99.8080, 8803.10.00, 8803.20.00, 8803.30.00, 8803.90.30, and 8803.90.90.

3. Spherical Plain Bearings, Mounted and Unmounted, and Parts Thereof: These products include all spherical plain bearings that employ a spherically shaped sliding element and include spherical plain rod ends.

Imports of these products are classified under the following HTSUS subheadings: 3926.90.45, 4016.93.00, 4016.93.10, 4016.93.50, 6909.50.10, 8483.30.80, 8483.90.30, 8485.90.00, 8708.93.5000, 8708.99.50, 8803.10.00, 8803.20.00, 8803.30.00, 8803.90.30, and 8803.90.90.

The size or precision grade of a bearing does not influence whether the bearing is covered by the order. For a listing of scope determinations which pertain to the orders, see the “Scope Determinations Memorandum” (Scope Memo) from the Antifriction Bearings Team to Laurie Parkhill, dated January 30, 2001, and hereby adopted by this notice. The Scope Memo is in the Central Records Unit (CRU), Main Commerce Building, Room B-099, in the General Issues record (A-100-001) for the 99/00 reviews.

Although the HTSUS item numbers above are provided for convenience and customs purposes, written descriptions of the scope of these proceedings remain dispositive.

Verification

As provided in section 782(i) of the Act, we verified information provided by certain respondents using standard verification procedures, including on-site inspection of the manufacturers' facilities, the examination of relevant sales and financial records, and selection of original documentation containing relevant information. Our verification results are outlined in the public versions of the verification reports, which are on file in the CRU, Room B-099.

Use of Facts Available

In accordance with section 776(a) of the Act, we preliminarily determine that the use of facts available as the basis for the weighted-average dumping margin is appropriate for Torrington Nadellager (Germany) and Sapporo Precision Inc. (Japan). We also preliminarily determine that the use of facts available is appropriate with respect to five of the Resellers (Alfateam-Belgium, Alfa-Team-Germany, Motion Bearings, Yoo Shin Commercial Company Ltd., and DCD) in the reviews of certain orders covering France, Germany, Italy, and Sweden. None of the above firms responded to our antidumping questionnaire fully (see the analysis memoranda to the file for these firms dated January 30, 2001) and, consequently, we find that they have not provided “information that has been requested by the administering authority” (Section 776(a)(1) of the Act).

In accordance with section 776(b) of the Act, we are making an adverse inference in our application of the facts available. This is necessary because the above firms have not acted to the best of their ability in providing us with relevant information which is under their control. As adverse facts available for these firms, we have applied the highest rate we have calculated for any companies under review in any segment of the relevant proceedings (i.e., BBs and CRBs from Germany and BBs from France, Italy, Sweden, and Japan). We have selected these rates because they are sufficiently high as to reasonably assure that the firms named above do not obtain a more favorable result by failing to cooperate. Specifically, these rates are 68.18 percent for BBs from France, 70.41 percent for BBs from Germany, 61.60 percent for CRBs from Germany, 68.29 percent for BBs from Italy, 13.55 percent for BBs from Sweden, and 73.55 percent for BBs from Japan.

Section 776(c) of the Act provides that the Department shall, to the extent practicable, corroborate secondary information used for facts available by reviewing independent sources reasonably at its disposal. Information from a prior segment of the proceeding or from another company in the same proceeding constitutes secondary information. The Statement of Administrative Action accompanying the URAA, H.R. Doc. 103-316, at 870 (1994) (SAA), provides that “corroborate” means simply that the Department will satisfy itself that the secondary information to be used has probative value. SAA at 870. As explained in Tapered Roller Bearings, Four Inches or Less in Outside Diameter, and Components Thereof, from Japan; Preliminary Results of Antidumping Duty Administrative Reviews and Partial Termination of Administrative Reviews, 61 FR 57391, 57392 (November 6, 1996) (Tapered Roller Bearings and Parts Thereof, Finished and Unfinished, from Japan) to corroborate secondary information, the Department will examine, to the extent practicable, the reliability and relevance of the information used. However, unlike other types of information, such as input costs or selling expenses, there are no independent sources for calculated dumping margins. The only source for margins is administrative determinations. Thus, with respect to an administrative review, if the Department chooses as facts available a calculated dumping margin from a prior segment of the proceeding, it is not necessary to question the reliability of the margin for that time period.

With respect to the relevance aspect of corroboration, however, the Department will consider information reasonably at its disposal as to whether there are circumstances that would render a margin not relevant. Where circumstances indicate that the selected margin is not appropriate as adverse facts available, the Department will disregard the margin and determine an appropriate margin (see Fresh Cut Flowers from Mexico; Final Results of Antidumping Duty Administrative Review, 61 FR 6812 (February 22, 1996), where the Department disregarded the highest dumping margin as best information available because the margin was based on another company's uncharacteristic business expense resulting in an unusually high margin). Further, in accordance with F.LII De Cecco Di Filippo Fara S. Martino S.p.A. v. United States, No. 99-1318 (CAFC June 16, 2000), we also examined whether information on the record would support the selected rates as reasonable facts available.

We find that the above rates that we are using for these preliminary results do have probative value. We compared the selected margins to margins calculated on individual sales of the merchandise in question made by either companies covered by the instant reviews or companies covered by the previous administrative review. We found a substantial number of sales, made in the ordinary course of trade and in commercial quantities, with dumping margins near or exceeding the rates under consideration. (The details of this analysis are contained in the proprietary versions of the analysis memoranda for the covered firms dated January 30, 2001.) This evidence supports an inference that the selected rates might reflect the actual dumping margins for the firms in question.

Furthermore, there is no information on the record that demonstrates that the rates selected are inappropriate total adverse facts-available rates for the companies in question. On the contrary, our existing record supports the use of these rates as the best indications of the export prices and dumping margins for these firms as explained in our January 30, 2001, memoranda. Therefore, we consider the selected rates to have probative value with respect to the firms in question in these reviews and to reflect appropriate adverse inferences.

In accordance with section 776(a) of the Act, we have also applied partial facts available to NTN (Japan). NTN did not provide information concerning downstream sales for two affiliated resellers as we requested in our supplemental questionnaire. For sales made by these affiliated resellers, we preliminarily determine that NTN did not act to the best of its ability to attempt to report the downstream sales. In the case of one of the resellers, NTN claimed it did not provide the data because the amount of sales by that affiliate was small. Thus, there was no apparent attempt to obtain the data from the affiliated reseller. In the case of the other reseller, NTN stated that the affiliate was not able to provide the requested information.

Because the reason NTN's affiliate did not provide the data is proprietary, please see the NTN preliminary analysis memorandum dated January 30, 2001, for more information. However, we find that NTN did not explain why its affiliate could not submit the requested information or whether additional time to respond would have allowed the affiliate to provide the information. Therefore, because we have preliminarily determined that NTN did not act to the best of its ability, we have used adverse facts available for sales made by these two affiliates, pursuant to section 776(b) of the Act. As adverse facts available, for each model sold to these affiliates, we have replaced the price to the affiliated party with the highest home-market price of a product which NTN sold to other customers (e.g., unaffiliated customers) for the same model and at the same level of trade during the period of review. For models sold by these two affiliates that NTN did not sell to other customers, we have increased the net home-market price. To do so, we first calculated a ratio based on the weighted-average difference in price between the highest price to other customers and the price to these affiliated resellers for all models which were sold to both types of customers. We then applied this ratio to the prices of models sold only to these affiliates to make an upward adjustment to those prices. This is the same methodology we used in applying facts available to NTN in the May 1, 1998, through April 30, 1999, administrative reviews (see Antifriction Bearings (Other Than Tapered Roller Bearings) and Parts Thereof From France, Germany, Italy, Japan, Romania, Singapore, Sweden, and the United Kingdom Final Results of Antidumping Duty Administrative Reviews and Revocation of Orders in Part, 65 FR 49219 (August 11, 2000) (AFBs 10), and accompanying Issues and Decision Memorandum at Comment 3).

Finally, pursuant to section 776(a)(2) of the Act, we have applied partial facts available to Cerobear for its sales of BBs from Germany. Cerobear did not provide constructed-value information for cases in which there were no contemporaneous sales of particular models sold in the home market to match with identical or similar models it sold to the United States. We requested that Cerobear provide such information so that we can use it for the final results of this review. For these preliminary results, we have used as facts available the weighted-average of the non-de minimis margins we calculated for Cerobear's sales of BBs to the United States where we were able to match U.S. price to either home-market price or constructed value.

Intent To Revoke and Intent Not To Revoke

On May 31, 2000, three of the companies taking part in these reviews submitted requests for the revocation, in part, of an antidumping duty order. SNFA France requested the revocation of the order covering CRBs from France as it pertains to its sales of these bearings. SNFA U.K. requested the revocation of the order covering BBs from the United Kingdom as it pertains to its sales of these bearings. Finally, SNR requested the revocation of the order on BBs from France as it pertains to its sales of these bearings.

Under section 751 of the Act, the Department “may revoke, in whole or in part” an antidumping duty order upon completion of a review. Although Congress has not specified the procedures that the Department must follow in revoking an order, the Department has developed a procedure for revocation that is set forth under 19 CFR 351.222. Under subsection 351.222(b), the Department may revoke an antidumping duty order in part if it concludes that: (i) The company in question has sold the subject merchandise at not less than normal value for a period of at least three consecutive years; (ii) it is not likely that the company will in the future sell the subject merchandise at less than normal value; and (iii) the company has agreed to immediate reinstatement in the order if the Department concludes that the company, subject to the revocation, sold the subject merchandise at less than normal value. Subsection 351.222(b)(3) states that, in the case of an exporter that is not the producer of subject merchandise, the Department normally will revoke an order in part under subsection 351.222(b)(2) only with respect to subject merchandise produced or supplied by those companies that supplied the exporter during the time period that formed the basis for revocation.

A request for revocation of an order in part must be accompanied by three elements. The company requesting the revocation must do so in writing and submit the following statements with the request: (1) The company's certification that it sold the subject merchandise at not less than normal value during the current review period and that, in the future, it will not sell at less than normal value; (2) the company's certification that, during each of the three years forming the basis of the request, it sold the subject merchandise to the United States in commercial quantities; (3) the agreement to reinstatement in the order if the Department concludes that the company, subsequent to revocation, has sold the subject merchandise at less than normal value. See 19 CFR 351.222(e)(1).

The requests from SNFA U.K. and SNR meet the criteria under subsection 351.222(e)(1). However, the results of our preliminary margin calculations show that both firms had U.S. sales at less than normal value during the current review period (see rates below). Thus, these companies do not meet the criterion under subsection 351.222(b)(2)(i) and we preliminarily determine not to revoke them from the order covering BBs from the United Kingdom and from France.

The request from SNFA France meets all of the criteria under subsection 351.222(e)(1). With regard to the criteria of subsection 351.222(b)(2), our preliminary margin calculations show that this firm sold CRBs at not less than normal value during the current review period (see rate below). In addition, it sold CRBs at not less than normal value in the two previous reviews. See AFBs 10 and Antifriction Bearings (Other Than Tapered Roller Bearings) and Parts Thereof from France, Germany, Italy, Japan, Romania, Sweden and the United Kingdom; Finals Results of Antidumping Duty Administrative Reviews and Revocation or Orders in Part, 64 FR 35590 (July 1, 1999). Thus, we preliminarily find that SNFA France had zero or de minimis dumping margins for three consecutive reviews in which it sold in commercial quantities. Also, we preliminarily determine that dumping is not likely to resume based upon the three consecutive reviews of zero or de minimis margins and in the absence of any other evidence on likelihood.

Therefore, we preliminarily intend to revoke the antidumping duty order covering CRBs from France as it pertains to the sales of these bearings by SNFA France.

If these preliminary findings are affirmed in our final results, we will revoke this order in part for SNFA France and, in accordance with 19 CFR 351.222(f)(3), we will terminate the suspension of liquidation for any of the merchandise in question that is entered or withdrawn from warehouse for consumption on or after May 1, 2000, and will instruct Customs to refund any cash deposits for such entries.

Export Price and Constructed Export Price

For the price to the United States, we used export price or constructed export price (CEP) as defined in sections 772(a) and (b) of the Act, as appropriate. Due to the extremely large volume of transactions that occurred during the period of review and the resulting administrative burden involved in calculating individual margins for all of these transactions, we sampled CEP sales in accordance with section 777A of the Act. When a firm made more than 2,000 CEP sales transactions to the United States for merchandise subject to a particular order, we reviewed CEP sales that occurred during sample weeks. We selected one week from each two-month period in the review period, for a total of six weeks, and analyzed each transaction made in those six weeks. The sample weeks are as follows: May 2-8, 1999; August 8-14, 1999; September 5-11, 1999; October 31-November 6, 1999; January 2-8, 2000; and April 9-15, 2000. We reviewed all export-price sales transactions during the period of review.

We calculated export price and CEP based on the packed F.O.B., C.I.F., or delivered price to unaffiliated purchasers in, or for exportation to, the United States. We made deductions, as appropriate, for discounts and rebates. We also made deductions for any movement expenses in accordance with section 772(c)(2)(A) of the Act.

In accordance with section 772(d)(1) of the Act and the SAA, at 823-824, we calculated the CEP by deducting selling expenses associated with economic activities occurring in the United States, including commissions, direct selling expenses, indirect selling expenses, and repacking expenses in the United States. When appropriate, in accordance with section 772(d)(2) of the Act, we also deducted the cost of any further manufacture or assembly, except where we applied the special rule provided in section 772(e) of the Act (see below). Finally, we made an adjustment for profit allocated to these expenses in accordance with section 772(d)(3) of the Act.

With respect to subject merchandise to which value was added in the United States prior to sale to unaffiliated U.S. customers, e.g., parts of bearings that were imported by U.S. affiliates of foreign exporters and then further processed into other products which were then sold to unaffiliated parties, we determined that the special rule for merchandise with value added after importation under section 772(e) of the Act applied to all firms that added value in the United States.

Section 772(e) of the Act provides that, when the subject merchandise is imported by an affiliated person and the value added in the United States by the affiliated person is likely to exceed substantially the value of the subject merchandise, we shall determine the CEP for such merchandise using the price of identical or other subject merchandise if there is a sufficient quantity of sales to provide a reasonable basis for comparison and we determine that the use of such sales is appropriate. If there is not a sufficient quantity of such sales or if we determine that using the price of identical or other subject merchandise is not appropriate, we may use any other reasonable basis to determine the CEP.

To determine whether the value added is likely to exceed substantially the value of the subject merchandise, we estimated the value added based on the difference between the averages of the prices charged to the first unaffiliated purchaser for the merchandise as sold in the United States and the averages of the prices paid for the subject merchandise by the affiliated purchaser. Based on this analysis, we determined that the estimated value added in the United States by all firms accounted for at least 65 percent of the price charged to the first unaffiliated customer for the merchandise as sold in the United States. (See 19 CFR 351.402(c) for an explanation of our practice on this issue.) Therefore, we preliminarily determine that the value added is likely to exceed substantially the value of the subject merchandise. Also, for the companies in question, we determine that there was a sufficient quantity of sales remaining to provide a reasonable basis for comparison and that the use of these sales are appropriate. Accordingly, for purposes of determining dumping margins for the sales subject to the special rule, we have used the weighted-average dumping margins calculated on sales of identical or other subject merchandise sold to unaffiliated persons.

No other adjustments to export price or CEP were claimed or allowed.

Normal Value

Based on a comparison of the aggregate quantity of home-market and U.S. sales and absent any information that a particular market situation in the exporting country did not permit a proper comparison, we determined, with the exception of Timken Aerospace U.K. Ltd., that the quantity of foreign like product sold by all respondents in the exporting country was sufficient to permit a proper comparison with the sales of the subject merchandise to the United States, pursuant to section 773(a) of the Act. Each company's quantity of sales in its home market was greater than five percent of its sales to the U.S. market. Therefore, in accordance with section 773(a)(1)(B)(i) of the Act, we based normal value on the prices at which the foreign like products were first sold for consumption in the exporting country.

With respect to Timken Aerospace U.K. Ltd., we found that, although its home market was viable under section 773(a)(1) of the Act, the firm made no sales of foreign like product in its home market that we were able to compare to its U.S. sales. Therefore, we based normal value on constructed value.

Due to the extremely large number of transactions that occurred during the period of review and the resulting administrative burden involved in examining all of these transactions, we sampled sales to calculate normal value in accordance with section 777A of the Act. When a firm had more than 2,000 home-market sales transactions on an order-specific basis, we used sales in sample months that corresponded to the sample weeks that we selected for U.S. CEP sales, sales in the month prior to the period of review, and sales in the month following the period of review. The sample months were April, May, August, September, and November of 1999 and January, April, and May of 2000.

We used sales to affiliated customers only where we determined such sales were made at arm's-length prices, i.e., at prices comparable to prices at which the firm sold identical merchandise to unaffiliated customers.

Because we disregarded below-cost sales in accordance with section 773(b) of the Act in the last completed review, AFBs 10, with respect to SNR (BBs), Koyo (BBs), NSK (BBs and CRBs), and NTN (all), we had reasonable grounds to believe or suspect that sales of the foreign like product under consideration for the determination of normal value in these reviews may have been made at prices below the cost of production (COP) as provided by section 773(b)(2)(A)(ii) of the Act. Therefore, pursuant to section 773(b)(1) of the Act, we conducted COP investigations of sales by these firms in the home market.

In accordance with section 773(b)(3) of the Act, we calculated the COP based on the sum of the costs of materials and fabrication employed in producing the foreign like product, the selling, general and administrative (SG&A) expenses, and all costs and expenses incidental to packing the merchandise. In our COP analysis, we used the home-market sales and COP information provided by each respondent in its questionnaire responses. We did not conduct a COP analysis regarding merchandise subject to an antidumping duty order in instances where a respondent reported no U.S. sales or shipments of merchandise subject to that order.

After calculating the COP, in accordance with section 773(b)(1) of the Act, we tested whether home-market sales of AFBs were made at prices below the COP within an extended period of time in substantial quantities and whether such prices permitted the recovery of all costs within a reasonable period of time. We compared model-specific COPs to the reported home-market prices less any applicable movement charges, discounts, and rebates.

Pursuant to section 773(b)(2)(C) of the Act, when less than 20 percent of a respondent's sales of a given product were at prices less than the COP, we did not disregard any below-cost sales of that product because the below-cost sales were not made in substantial quantities within an extended period of time. When 20 percent or more of a respondent's sales of a given product during the period of review were at prices less than the COP, we disregarded the below-cost sales because they were made in substantial quantities within an extended period of time pursuant to sections 773(b)(2)(B) and (C) of the Act and because, based on comparisons of prices to weighted-average COPs for the period of review, we determined that these sales were at prices which would not permit recovery of all costs within a reasonable period of time in accordance with section 773(b)(2)(D) of the Act. Based on this test, we disregarded below-cost sales with respect to all of the above-mentioned companies and indicated merchandise except where there were no sales or shipments subject to review.

We compared U.S. sales with sales of the foreign like product in the home market. We considered all non-identical products within a bearing family to be equally similar. As defined in the questionnaire, a bearing family consists of all bearings which are the foreign like product that are the same in the following physical characteristics: Load direction, bearing design, number of rows of rolling elements, precision rating, dynamic load rating, outer diameter, inner diameter, and width.

Home-market prices were based on the packed, ex-factory or delivered prices to affiliated or unaffiliated purchasers. When applicable, we made adjustments for differences in packing and for movement expenses in accordance with sections 773(a)(6)(A) and (B) of the Act. We also made adjustments for differences in cost attributable to differences in physical characteristics of the merchandise pursuant to section 773(a)(6)(C)(ii) of the Act and for differences in circumstances of sale (COS) in accordance with section 773(a)(6)(C)(iii) of the Act and 19 CFR 351.410. For comparisons to export price, we made COS adjustments by deducting home-market direct selling expenses from and adding U.S. direct selling expenses to normal value. For comparisons to CEP, we made COS adjustments by deducting home-market direct selling expenses from normal value. We also made adjustments, when applicable, for home-market indirect selling expenses to offset U.S. commissions in export-price and CEP calculations.

In accordance with section 773(a)(1)(B)(i) of the Act, we based normal value, to the extent practicable, on sales at the same level of trade as the export price or CEP. If normal value was calculated at a different level of trade, we made an adjustment, if appropriate and if possible, in accordance with section 773(a)(7) of the Act. (See Level of Trade section below.)

In accordance with section 773(a)(4) of the Act, we used constructed value as the basis for normal value when there were no usable sales of the foreign like product in the comparison market. We calculated constructed value in accordance with section 773(e) of the Act. We included the cost of materials and fabrication, SG&A expenses, and profit in the calculation of constructed value. In accordance with section 773(e)(2)(A) of the Act, we based SG&A expenses and profit on the amounts incurred and realized by each respondent in connection with the production and sale of the foreign like product in the ordinary course of trade for consumption in the home market.

When appropriate, we made adjustments to constructed value in accordance with section 773(a)(8) of the Act and 19 CFR 351.410 for COS differences and level-of-trade differences. For comparisons to export price, we made COS adjustments by deducting home-market direct selling expenses from and adding U.S. direct selling expenses to normal value. For comparisons to CEP, we made COS adjustments by deducting home-market direct selling expenses from normal value. We also made adjustments, when applicable, for home-market indirect selling expenses to offset U.S. commissions in export-price and CEP comparisons.

When possible, we calculated constructed value at the same level of trade as the export price or CEP. If constructed value was calculated at a different level of trade, we made an adjustment, if appropriate and if possible, in accordance with sections 773(a)(7) and (8) of the Act. (See Level of Trade section below.)

Level of Trade

To the extent practicable, we determined normal value for sales at the same level of trade as the U.S. sales (either export price or CEP). When there were no sales at the same level of trade, we compared U.S. sales to home-market sales at a different level of trade. The normal-value level of trade is that of the starting-price sales in the home market. When normal value is based on constructed value, the level of trade is that of the sales from which we derived SG&A and profit.

To determine whether home-market sales are at a different level of trade than U.S. sales, we examined stages in the marketing process and selling functions along the chain of distribution between the producer and the unaffiliated customer. If the comparison-market sales were at a different level of trade from that of a U.S. sale and the difference affected price comparability, as manifested in a pattern of consistent price differences between the sales on which normal value is based and comparison-market sales at the level of trade of the export transaction, we made a level-of-trade adjustment under section 773(a)(7)(A) of the Act. See Notice of Final Determination of Sales at Less Than Fair Value: Certain Cut-to-Length Carbon Steel Plate from South Africa, 62 FR 61731 (November 19, 1997).

For a company-specific description of our level-of-trade analysis for these preliminary results, see Memorandum to Laurie Parkhill from Antifriction Bearings Team regarding Level of Trade, dated January 30, 2001, on file in the CRU, Room B-099.

Preliminary Results of Reviews

As a result of our reviews, we preliminarily determine the following weighted-average dumping margins (in percent) for the period May 1, 1999, through April 30, 2000 (for BBs), and for the period May 1, 1999, through December 31, 1999 (for CRBs and SPBs):

Company | Ball | Cylindrical | Spherical plain
FRANCE
SNFA | (³) | 0.00 |
SNR | 2.92 | (³) |
Alfateam | 66.18 | (³) |
Alfa-Team | 66.18 | (³) |
Bearing Discount Int | (²) | (³) |
Motion Bearings | 66.18 | (³) |
Yoo Shin Commercial Co | 66.18 | (³) |
Rodamientos Rovi | (²) | (³) |
Rovi-Valencia | (²) | (³) |
Rovi-Marcay | (²) | (³) |
RIRSA | (²) | (³) |
DCD | 66.18 | (³) |
EuroLatin Ex. Services | (²) | (³) |
GERMANY
Cerobar GmbH | 0.07 | 0.00 | (³)
INA | (¹) | 0.10 | (¹)
Torrington | 70.41 | 61.60 | (³)
Alfateam | 70.41 | 61.60 | (³)
Alfa-Team | 70.41 | 61.60 | (³)
Bearing Discount Int | (²) | (²) | (³)
Motion Bearings | 70.41 | 61.60 | (³)
Yoo Shin Commercial Co | 70.41 | 61.60 | (³)
Rodamientos Rovi | (²) | (²) | (³)
Rovi-Valencia | (²) | (²) | (³)
Rovi-Marcay | (²) | (²) | (³)
RIRSA | (²) | (²) | (³)
DCD | 70.41 | 61.60 | (³)
EuroLatin Ex. Services | (²) | (²) | (³)
ITALY
Alfateam | 68.29 |  |
Alfa-Team | 68.29 |  |
Bearing Discount Int | (²) |  |
Motion Bearings | 68.29 |  |
Yoo Shin Commercial Co | 68.29 |  |
Rodamientos Rovi | (²) |  |
Rovi-Valencia | (²) |  |
Rovi-Marcay | (²) |  |
RIRSA | (²) |  |
DCD | 68.29 |  |
EuroLatin Ex. Services | (²) |  |
JAPAN
Koyo | 10.15 | 6.21 | 0.00
NSK Ltd. | 4.65 | 5.89 | (³)
NTN | 15.98 | 15.42 | 3.07
Sapporo | 73.55 | (³) | (³)
SWEDEN
Alfateam | 13.55 |  |
Alfa-Team | 13.55 |  |
Bearing Discount Int | (²) |  |
Motion Bearings | 13.55 |  |
Yoo Shin Commercial Co | 13.55 |  |
Rodamientos Rovi | (²) |  |
Rovi-Valencia | (²) |  |
Rovi-Marcay | (²) |  |
RIRSA | (²) |  |
DCD | 13.55 |  |
EuroLatin Ex. Services | (²) |  |
UNITED KINGDOM
NSK/RHP Bearings | 15.70 |  |
SNFA | 2.21 |  |
Timken | 1.11 |  |
¹ No shipments or sales subject to this review. The deposit rate remains unchanged from the last relevant segment of the proceeding in which the firm had shipments/sales.
² No shipments or sales subject to this review. The firm has no individual rate from any segment of this proceeding.
³ No request for review under section 751(a) of the Act.

Any interested party may request a hearing within 21 days of the date of publication of this notice. A general-issues hearing, if requested, and any hearings regarding issues related solely to specific countries, if requested, will be held in accordance with the following schedule and at the indicated locations in the main Commerce Department building:

Case | Date | Time | Room No.
General Issues | March 15, 2001 | 9:00 am | B-841A
Sweden | March 15, 2001 | 2:00 pm | B-841A
Germany | March 22, 2001 | 9:00 am | 6057
Italy | March 22, 2001 | 2:00 pm | 6057
United Kingdom | March 23, 2001 | 9:00 am | 6057
France | March 23, 2001 | 2:00 pm | 6057
Japan | March 26, 2001 | 9:00 am | 6057

Issues raised in hearings will be limited to those raised in the respective case and rebuttal briefs. Case briefs from interested parties and rebuttal briefs, limited to the issues raised in the respective case briefs, may be submitted not later than the dates shown below for general issues and the respective country-specific cases. Parties who submit case or rebuttal briefs in these proceedings are requested to submit with each argument (1) a statement of the issue, and (2) a brief summary of the argument with an electronic version included.

Case | Briefs due | Rebuttals due
General Issues | March 5, 2001 | March 12, 2001.
Sweden | March 5, 2001 | March 12, 2001.
Germany | March 6, 2001 | March 13, 2001.
Italy | March 6, 2001 | March 13, 2001.
United Kingdom | March 7, 2001 | March 14, 2001.
France | March 7, 2001 | March 14, 2001.
Japan | March 8, 2001 | March 15, 2001.

The Department will publish the final results of these administrative reviews, including the results of its analysis of issues raised in any such written briefs. The Department will issue final results of these reviews within 120 days of publication of these preliminary results.

Assessment Rates

The Department shall determine, and the Customs Service shall assess, antidumping duties on all appropriate entries. In accordance with 19 CFR 351.212(b)(1), we have calculated, whenever possible, an exporter/importer-specific assessment rate or value for subject merchandise.

Export-Price Sales

With respect to export-price sales for these preliminary results, we divided the total dumping margins (calculated as the difference between normal value and export price) for each importer/customer by the total number of units sold to that importer/customer. We will direct the Customs Service to assess the resulting per-unit dollar amount against each unit of merchandise in each of that importer's/customer's entries under the relevant order during the review period.

Constructed Export Price Sales

For CEP sales (sampled and non-sampled), we divided the total dumping margins for the reviewed sales by the total entered value of those reviewed sales for each importer. We will direct the Customs Service to assess the resulting percentage margin against the entered customs values for the subject merchandise on each of that importer's entries under the relevant order during the review period (see 19 CFR 351.212(a)).

Cash-Deposit Requirements

To calculate the cash-deposit rate for each respondent (i.e., each exporter and/or manufacturer included in these reviews) we divided the total dumping margins for each company by the total net value for that company's sales of merchandise during the review period subject to each order.

In order to derive a single deposit rate for each order for each respondent, we weight-averaged the export-price and CEP deposit rates (using the export price and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. Finally, we divided the combined total dumping margins for both export-price and CEP sales by the combined total value for both export-price and CEP sales to obtain the deposit rate.

Entries of parts incorporated into finished bearings before sales to an unaffiliated customer in the United States will receive the respondent's deposit rate applicable to the order.

Furthermore, the following deposit requirements will be effective upon publication of the notice of final results of administrative reviews for all shipments of AFBs entered, or withdrawn from warehouse, for consumption on or after the date of publication, as provided by section 751(a)(1) of the Act unless the order has been revoked, effective January 1, 2000: (1) The cash-deposit rates for the reviewed companies will be the rates established in the final results of reviews; (2) for previously reviewed or investigated companies not listed above, the cash-deposit rate will continue to be the company-specific rate published for the most recent period; (3) if the exporter is not a firm covered in this review, a prior review, or the less-than-fair-value investigation, but the manufacturer is, the cash-deposit rate will be the rate established for the most recent period for the manufacturer of the merchandise; and (4) the cash-deposit rate for all other manufacturers or exporters will continue to be the “All Others” rate for the relevant order made effective by the final results of review published on July 26, 1993 (see Antifriction Bearings (Other Than Tapered Roller Bearings) and Parts Thereof From France, et al; Final Results of Antidumping Duty Administrative Reviews and Revocation in Part of an Antidumping Duty Order, 58 FR 39729 (July 26, 1993), and, for BBs from Italy, see Antifriction Bearings (Other Than Tapered Roller Bearings) and Parts Thereof From France, et al; Final Results of Antidumping Duty Administrative Reviews, Partial Termination of Administrative Reviews, and Revocation in Part of Antidumping Duty Orders, 61 FR 66472 (December 17, 1996)). These rates are the “All Others” rates from the relevant less-than-fair-value investigations.

These deposit requirements, when imposed, shall remain in effect until publication of the final results of the next administrative reviews.

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

We are issuing and publishing these determinations in accordance with sections 751(a)(1) and 777(i)(1) of the Act.

Dated: January 30, 2001.
Bernard T. Carreau,
Acting Assistant Secretary for Import Administration.

[FR Doc. 01-2981 Filed 2-2-01; 8:45 am]

BILLING CODE 3510-DS-P